DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Tioga Central Railroad

[Docket No. FRA-2002-11991]

The Tioga Central Railroad (TCR) seeks a waiver of compliance from certain provisions of the Safety Glazing Standards, 49 CFR 223.11 and 223.15, which requires certified glazing for three (3) locomotives, TIOC 14, TIOC 62 and TIOC 606, and six (6) coaches, specifically, TIOC 263, TIOC 365, TIOC 370, TIOC 410, TIOC 500 and TIOC 2930.

Additionally, this railroad operates in a rural area and there are no records showing any incidents of vandalism involving glazing. The TIOC operates at a speed not exceeding 20 miles per hour. The TIOC operates solely as a tourist, excursion railroad.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-11991) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9:00 a.m.—5:00 p.m.) at the above facility. All documents in the public docket are also available for inspection and copying on the Internet at the docket facility's web site at ­http://dms.dot.gov.

Issued in Washington, DC, on June 12, 2002.
Grady C. Cothen, Jr.,
Deputy Associate Administrator for Safety Standards and Program Development.

[FR Doc. 02-15283 Filed 6-17-02; 8:45 am]

BILLING CODE 4910-06-P